DEPARTMENT OF HEALTH AND HUMAN SERVICES

Food and Drug Administration

21 CFR Part 179

[Docket No. 99F-2673]

Irradiation in the Production, Processing and Handling of Food

Correction

In rule document 00-27735 beginning on page 64605 in the issue of Monday, October 30, 2000, the docket number is corrected to read as set forth above.

[FR Doc. C0-27735 Filed 11-8-00; 8:45 am]

BILLING CODE 1505-01-D

DEPARTMENT OF HEALTH AND HUMAN SERVICES

Food and Drug Administration

21 CFR Parts 600 and 606

[Docket No. 97N-0242]

Biological Products: Reporting of Biological Product Deviations in Manufacturing

Correction

In rule document 00-28133 beginning on page 66621 in the issue of Tuesday, November 7, 2000, make the following correction:

On page 66622, in the first column, in the DATES section, “May 7, 2000” should read “May 7, 2001”.

[FR Doc. C0-28133 Filed 11-8-00; 8:45 am]

BILLING CODE 1505-01-D

SECURITIES AND EXCHANGE COMMISSION

[Release No. 34-43291; File No. SR-NASD-00-34]

Self-Regulatory Organizations; Notice of Filing of Proposed Rule Change by the National Association of Securities Dealers, Inc. Relating to the Authority of the Director of Arbitration to Remove Arbitrators for Cause

September 14, 2000.

Correction

In notice document 00-24389 beginning on page 57413 in the issue of Friday, September 22, 2000 make the following correction:

On page 57416, in the second column, under the heading “IV. Solicitation of Comments”, in the 25th line “NASA” should read “NASD”.

[FR Doc. C0-24389 Filed 11-8-00; 8:45 am]

BILLING CODE 1505-01-D

SECURITIES AND EXCHANGE COMMISSION

[Release No. 34-43303; File No. SR-NASD-00-52]

Self-Regulatory Organizations; Notice of Filing and Immediate Effectiveness of Proposed Rule Change by the National Association of Securities Dealers, Inc. Relating to an Alternative Method of Reporting Riskless Principal Trades

September 19, 2000.

Correction

In notice document 00-24642 beginning on page 57853 in the issue of Tuesday, September 26, 2000, the date is added to read as set forth above.

[FR Doc. C0-24642 Filed 11-8-00; 8:45 am]

BILLING CODE 1505-01-D